OCCUPATIONAL SAFETY AND HEALTH REVIEW COMMISSION

Privacy Act of 1974; Revised System of Records

AGENCY: Occupational Safety and Health Review Commission.

ACTION: Notice of revised system of records.

SUMMARY: In accordance with the Privacy Act of 1974, 5 U.S.C. 552a, as amended, the Occupational Safety and Health Review Commission (OSHRC) is revising the notice for Privacy Act system-of-records OSHRC-6. OSHRC's Privacy Act system-of-records notices are published at 72 FR 54301, 54301-03, Sept. 24, 2007, and 71 FR 19556, 19556-67, Apr. 14, 2006, with additional blanket routine uses published at 73 FR 45256, 45256-57, Aug. 4, 2008, and 80 FR 60182, 60182, Oct. 5, 2015.

DATES: Comments must be received by OSHRC on or before August 16, 2016. The revised system of records will become effective on that date, without any further notice in the Federal Register, unless comments or government approval procedures necessitate otherwise.

ADDRESSES: You may submit comments by any of the following methods:

• Email: rbailey@oshrc.gov. Include “PRIVACY ACT SYSTEM OF RECORDS” in the subject line of the message.

• Fax: (202) 606-5417.

• Mail: One Lafayette Centre, 1120 20th Street NW., Ninth Floor, Washington, DC 20036-3457.

• Hand Delivery/Courier: Same as mailing address.

Instructions: All submissions must include your name, return address, and email address, if applicable. Please clearly label submissions as “PRIVACY ACT SYSTEM OF RECORDS.”

FOR FURTHER INFORMATION CONTACT: Ron Bailey, Attorney-Advisor, Office of the General Counsel, via telephone at (202) 606-5410, or via email at rbailey@oshrc.gov.

SUPPLEMENTARY INFORMATION: The Privacy Act of 1974, 5 U.S.C. 552a(e)(4), requires federal agencies such as OSHRC to publish in the Federal Register notice of any new or revised system of records. As detailed below, OSHRC is revising OSHRC-6, formerly named “Case Management System/Tracking System.” The revised notice for OSHRC-6, provided below in its entirety, is as follows.

OSHRC-6

System name:

E-Filing/Case Management System.

Security classification:

None.

System location:

Electronic records are maintained in a private cloud within an Oracle Database, operated by MicroPact at 12901 Worldgate Drive, Suite 800, Herndon, VA 20170. Paper records are maintained by the Office of the Executive Secretary, located at 1120 20th Street NW., Ninth Floor, Washington, DC 20036-3457.

Categories of individuals covered by the system:

This system of records covers (1) ALJs; (2) Commission members and their staff; (3) OSHRC employees entering data into the e-filing/case management system, or assigned responsibilities with respect to a particular case; and (4) parties, the parties' points of contact, and the parties' representatives in cases that have been, or presently are, before OSHRC.

Categories of records in the system:

The electronic records contain the following information: (1) The names of those covered by the system of records and, as to parties, their points of contact; (2) the telephone and fax numbers, business email addresses, and/or business street addresses of those covered by the system of records; (3) the names of OSHRC cases, and information associated with the cases, such as the inspection number, the docket number, the state in which the action arose, the names of the representatives, and whether the case involved a fatality; (4) events occurring in cases and the dates on which the events occurred; (5) documents filed in cases and the dates on which the documents were filed; and (6) the names of OSHRC employees entering data into the e-filing/case management system, or assigned responsibilities with respect to a particular case. The paper records are hard copies of the electronic records in the e-filing/case management system.

Authority for maintenance of the system:

29 U.S.C. 661.

Purpose(s):

This system of records is maintained for the purpose of processing cases that are before OSHRC.

Routine uses of records maintained in the system, including categories of users and the purposes of such uses:

In addition to the Blanket Routine Uses discussed in 71 FR at 19558-59, 73 FR at 45256-57, and 80 FR at 60182, when considered appropriate, records in this system may be referred to a bar association or similar federal, state, or local licensing authority for a possible disciplinary action. Also, records may be disclosed to vetted MicroPact employees in order to ensure that the e-filing/case management system is properly maintained. And, in accordance with 29 U.S.C. 661(g), OSHRC's case files may be disclosed to the public for the purpose of inspecting and/or copying the records at OSHRC.

Disclosures to consumer reporting agencies:

None.

Policies and practices for storing, retrieving, accessing, retaining, and disposing of records in the system:

Storage:

At MicroPact's secure facility, the information is stored in a database contained on a separate database server behind the application server serving the data. Paper records are stored in the records room and in file cabinets.

Retrievability:

Electronic records contained in the case e-filing/case management system may be retrieved by any of the data items listed under “Categories of Records in the System,” including docket number, inspection number, any part of a representative's name or the case name, and user. Paper records may be retrieved manually by docket number or case name.

Safeguards:

Electronic records contained in the e-filing/case management system are safeguarded as follows. Data going across the Internet is encrypted using SSL encryption. Every system is password protected. MicroPact, which stores the data in a private cloud within an Oracle Database, operates its own datacenter that is protected by physical security measures. Only authorized MicroPact employees who have both physical key and key card access to the datacenter can physically access the sites where data is stored. Only authorized and vetted MicroPact employees have access to the servers containing any PII.

The access of parties and their representatives to electronic records in the system is limited to active files pertaining to cases in which the parties are named, or the representatives have entered appearances. The access of OSHRC employees is limited to personnel having a need for access to perform their official functions and is additionally restricted through password identification procedures.

Paper records are maintained in a records room that can only be accessed using a smartcard or a key. Some paper records are also maintained in file cabinets. During duty hours, these records are under surveillance of personnel charged with their custody, and after duty hours, the records are secured behind locked doors. Access to the cabinets is limited to personnel having a need for access to perform their official functions.

Retention and disposal:

Under Records Disposition Schedule N1-455-90-1, paper case files may be destroyed 20 years after a case closes. Under Records Disposition Schedule N1-455-11-2, electronic records pertaining to those paper case files may be deleted when no longer needed for the conduct of current business.

System manager(s) and address:

Supervisory Information Technology Specialist (electronic records contained in the e-filing/case management system) and the Executive Secretary (all other records), OSHRC, 1120 20th Street NW., Ninth Floor, Washington, DC 20036-3457.

Notification procedure:

Individuals interested in inquiring about their records should notify: Privacy Officer, OSHRC, 1120 20th Street NW., Ninth Floor, Washington, DC 20036-3457. For an explanation on how such requests should be drafted, refer to 29 CFR 2400.5 (notification), and 29 CFR 2400.6 (procedures for requesting records).

Record access procedures:

Individuals who wish to gain access to their records should notify: Privacy Officer, OSHRC, 1120 20th Street NW., Ninth Floor, Washington, DC 20036-3457. For an explanation on how such requests should be drafted, refer to 29 CFR 2400.6 (procedures for requesting records).

Contesting record procedures:

Individuals who wish to contest their records should notify: Privacy Officer, OSHRC, 1120 20th Street NW., Ninth Floor, Washington, DC 20036-3457. For an explanation on the specific procedures for contesting the contents of a record, refer to 29 CFR 2400.8 (Procedures for requesting amendment), and 29 CFR 2400.9 (Procedures for appealing).

Record source categories:

Information in this system is derived from the individual to whom it applies or is derived from case processing records maintained by the Office of the Executive Secretary and the Office of the General Counsel, or from information provided by the parties who appear before OSHRC.

Exemptions claimed for the system:

None.

Dated: June 29, 2016.
Cynthia L. Attwood,
Chairman.

[FR Doc. 2016-16065 Filed 7-6-16; 8:45 am]

BILLING CODE 7600-01-P